GENERAL SERVICES ADMINISTRATION

48 CFR Part 536

[GSAR Case 2008-G509; Docket 2008-0007; Sequence 24]

RIN 3090-AI81

General Services Administration Acquisition Regulation (GSAR); GSAR Case 2008-G509; Rewrite of GSAR Part 536, Construction and Architect-Engineer Contracts

AGENCY: Office of Acquisition Policy, General Services Administration (GSA).

ACTION: Proposed rule; withdrawal.

SUMMARY: GSA has decided to withdraw GSAR Case 2008-G509; Rewrite of General Services Acquisition Regulation (GSAR) Part 536, Construction and Architect-Engineer Contracts. This rule is being withdrawn because the General Services Administration believes that an agency review of the current implementation plan for this GSAR case is appropriate to address the variety of issues included in the GSAR Part 536 Rewrite and to address strong stakeholder interest.

DATES: Effective: February 9, 2015 the proposed rule published December 2, 2008 at 73 FR 73199 is withdrawn.

FOR FURTHER INFORMATION CONTACT: For clarification about content, contact Ms. Christina Mullins, General Services Acquisition Policy Division, GSA, by phone at 202-969-4066 or by email at Christina.Mullins@gsa.gov. For information pertaining to status or publication schedules, contact the Regulatory Secretariat by mail at 1800 F Street NW., Washington, DC 20405, or by phone at 202-501-4755. Please cite GSAR Case 2008-G509, Proposed Rule; Withdrawal.

SUPPLEMENTARY INFORMATION: GSA has decided to withdraw GSAR Case 2008-G509; Rewrite of GSAR Part 536, Construction and Architect-Engineer Contracts, which was published in the Federal Register at 73 FR 73199, December 2, 2008.

This rule was a result of the GSA Acquisition Manual (GSAM) Rewrite initiative undertaken by GSA to revise the GSAM to maintain consistency with the FAR and implement streamlined and innovative acquisition procedures. This rule proposed amendments to the GSAR to update text addressing GSAR Part 536: Subpart 536.101, Applicability; Subpart 536.201, Evaluation of Contractor Performance; Subpart 536.202, Specifications; Subpart 536.270, Exercise of Options; Subpart 536.271, Project Labor Agreements; Subpart 536.5, Contract Clauses; and Subpart 536.602, Selection of Firms for Architect-Engineer Contracts.

GSA is opening a series of new GSAR cases to separately address these issues and update the GSAM Part 536 coverage. The new GSAR cases will focus on the areas that require immediate modernization to position GSA to meet current and future needs of contracting activities.

List of Subjects in 48 CFR Part 536.

Government procurement.

Dated: February 3, 2015.
Jeffrey A. Koses,
Senior Procurement Executive, Office of Acquisition Policy, Office of Government-wide Policy.

[FR Doc. 2015-02534 Filed 2-6-15; 8:45 am]

BILLING CODE 6820-61-P